DEPARTMENT OF HOMELAND SECURITY

Coast Guard

33 CFR Part 117

[Docket No. USCG-2017-0595]

Drawbridge Operation Regulation; Jamaica Bay, Queens, NY

AGENCY: Coast Guard, DHS.

ACTION: Notice of deviation from drawbridge regulation.

SUMMARY: The Coast Guard has issued a temporary deviation from the operating schedule that governs the Marine Parkway (Gil Hodges) Bridge across Jamaica Bay, mile 3.0, at Queens, NY. This temporary deviation extends the period the bridge may remain in the closed-to-navigation position and is necessary to finalize emergency repairs.

DATES: This deviation is effective from 12:01 a.m. on May 26, 2018, to 11:59 p.m. on June 29, 2018.

ADDRESSES: The docket for this deviation, USCG-2017-0595 is available at http://www.regulations.gov. Type the docket number in the “SEARCH” box and click “SEARCH”. Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: On July 6, 2017, the Coast Guard published a temporary deviation entitled “Drawbridge Operation Regulation; Jamaica Bay, Queens, NY” in the Federal Register (82 FR 31255). That deviation allowed the bridge to open with two-hours of advance notice from July 6, 2017 to December 22, 2017. On December 7, 2017, the Coast Guard published a temporary interim rule with request for comments entitled “Drawbridge Operation Regulation; Jamaica Bay, Queens, NY” in the Federal Register (82 FR 57674). That temporary interim rule extended the period the bridge may remain in the closed position through May 25, 2018.

The owner of the bridge, the Metropolitan Transportation Authority, requested a second temporary deviation to extend the bridge closure from 12:01 a.m. on May 26, 2018 to 11:59 p.m. on June 29, 2018. This extension is necessary to complete emergency repairs associated with the replacement of lift span machinery that has been delayed by inclement weather.

The Marine Parkway (Gil Hodges) Bridge across Rockaway Inlet, mile 3.0 at Queens, New York is a vertical lift bridge with a vertical clearance of 55 feet at mean high water and 59 feet at mean low water in the closed position. The existing drawbridge operating regulations are listed at 33 CFR 117.795(a).

The waterway is transited by seasonal recreational traffic and some commercial vessels. Coordination with waterway users has indicated no objections to the proposed closure of the draw. Vessels able to pass through the bridge in the closed position may do so at any time. The bridge will not be able to open for emergencies. There is no immediate alternate route for vessels unable to pass through the bridge when in the closed position.

The Coast Guard will also inform the users of the waterways through our Local and Broadcast Notices to Mariners of the change in operating schedule for the bridge so that vessel operators can arrange their transits to minimize any impact caused by this temporary deviation.

In accordance with 33 CFR 117.35(e), the drawbridge must return to its regular operating schedule immediately at the end of the effective period of this temporary deviation. This deviation from the operating regulations is authorized under 33 CFR 117.35.

Dated: May 7, 2018.
Christopher J. Bisignano,
Supervisory Bridge Management Specialist, First Coast Guard District.

[FR Doc. 2018-11098 Filed 5-23-18; 8:45 am]

BILLING CODE 9110-04-P